DEPARTMENT OF THE INTERIOR

Fish and Wildlife Service

[FWS-R8-ES-2023-N040; FXES11130800000-234-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before May 30, 2023.

ADDRESSES:

Document availability and comment submission: Submit requests for copies of the applications and related documents and submit any comments by one of the following methods. All requests and comments should specify the applicant name(s) and application number(s) (e.g., XXXXXX or PER0001234).

• Email: permitsR8ES@fws.gov.

• U.S. Mail: Susie Tharratt, Regional Recovery Permit Coordinator, U.S. Fish and Wildlife Service, 2800 Cottage Way, Room W-2606, Sacramento, CA 95825.

FOR FURTHER INFORMATION CONTACT: Susie Tharratt, via phone at 916-414-6561, or via email at permitsR8ES@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Take activity | Permit action
42833A | Ian Maunsell, El Cajon, California | • Quino checkerspot butterfly (Euphydryas editha quino) • Light-footed Ridgway's rail (Rallus obsoletus levipes). • Yuma Ridgway's rail (Rallus obsoletus yumanensis). | CA | Survey using recorded vocalizations, pursue, capture, handle, release, collect adult vouchers, and collect branchiopod cysts | Renew.
|  | • Riverside fairy shrimp (Streptocephalus woottoni)
|  | • San Diego fairy shrimp (Branchinecta sandiegonensis)
88417B | Phoenix Biological Consulting, Vista, California | • Giant kangaroo rat (Dipodomys ingens) • Tipton kangaroo rat (Dipodomys nitratoides nitratoides). • Southwestern willow flycatcher (Empidonax traillii extimus). • Yellow-billed cuckoo (Coccyzus americanus) Western distinct population segment | CA, NV | Survey, survey using recorded vocalizations, capture, handle, and release | Renew.
59559C | McCormick Biological, Inc., Bakersfield, California | • California tiger salamander (Ambystoma californiense), Sonoma County and Santa Barbara County distinct population segments • Giant kangaroo rat (Dipodomys ingens) • Tipton kangaroo rat (Dipodomys nitratoides nitratoides). | CA | Survey, capture, handle, mark, tissue sample, relocate, and release, collect adult vouchers, and collect branchiopod cysts | Renew and amend.
|  | • Buena Vista Lake ornate shrew (Sorex ornatus relictus)
|  | • Conservancy fairy shrimp (Branchinecta conservatio)
|  | • Longhorn fairy shrimp (Branchinecta longiantenna)
|  | • Vernal pool tadpole shrimp (Lepidurus packardi)
|  | • Riverside fairy shrimp (Streptocephalus woottoni)
|  | • San Diego fairy shrimp (Branchinecta sandiegonensis)
843381 | Sonoma-Mendocino Coast District State Parks, Mendocino, California | • Point Arena mountain beaver (Aplodontia rufa nigra) • Behren's silverspot butterfly (Speyeria zerene behrensii). | CA | Survey, pursue, and perform habitat restoration | Renew.
PER1628411 | Mira Falicki, Santa Barbara, California | • California tiger salamander (Ambystoma californiense), Sonoma County and Santa Barbara County distinct population segments | CA | Survey, capture, handle, and release | New.
050122 | California Department of Fish and Wildlife, Bishop, California | • Sierra Nevada bighorn sheep (Ovis canadensis sierrae) | CA | Survey, pursue, trap, capture, collect, handle, mark, collar, collect morphological data and biological samples, conduct ultrasounds, insert vaginal implant transmitters, wound administer veterinary care, release, euthanize, transport, translocate, and hold in captivity | Renew.
PER1628413 | Mario Gaytan, Bakersfield, California | • Morro Bay kangaroo rat (Dipodomys heermanni morroensis) • Fresno kangaroo rat (Dipodomys nitratoides exilis). • Giant kangaroo rat (Dipodomys ingens) | CA | Survey, capture, handle, release, and collect adult vouchers | New.
|  | • Tipton kangaroo rat (Dipodomys nitratoides nitratoides)
|  | • Conservancy fairy shrimp (Branchinecta conservatio)
|  | • Longhorn fairy shrimp (Branchinecta longiantenna)
|  | • Vernal pool tadpole shrimp (Lepidurus packardi)
|  | • Riverside fairy shrimp (Streptocephalus woottoni)
|  | • San Diego fairy shrimp (Branchinecta sandiegonensis)
59924C | Land Trust of Santa Cruz County, Santa Cruz, California | • Ohlone tiger beetle (Cicindela ohlone) | CA | Survey, monitor populations, and conduct habitat restoration | Renew.
039460 | Thomas Olson, Lompoc, California | • California tiger salamander (Ambystoma californiense), Santa Barbara County distinct population segments | CA | Survey, capture, handle, release, collect genetic samples, and collect voucher specimens | Renew.
34570A | San Francisco Bay Bird Observatory, Milpitas, California | • California least tern (Sternula antillarum browni) | CA | Survey, locate and monitor nests, monitor with cameras, trap, collect genetic samples, mark, float eggs, erect chick shelters, play audio, and place, maintain, and remove decoys | Renew and amend.
96514A | Jonathan Aguayo, Buena Park, California | • El Segundo blue butterfly (Euphilotes battoides allyni) | CA | Pursue | Amend.
782703 | Michael Couffer, Corona Del Mar, California | • Quino checkerspot butterfly (Euphydryas editha quino) | CA | Pursue | Renew.
PER2371117 | Lora Roame, Walnut Creek, California | • Conservancy fairy shrimp (Branchinecta conservatio) • Longhorn fairy shrimp (Branchinecta longiantenna). • Vernal pool tadpole shrimp (Lepidurus packardi). | CA | Survey, capture, handle, release, collect adult vouchers, and collect branchiopod cysts | New.
|  | • Riverside fairy shrimp (Streptocephalus woottoni)
|  | • San Diego fairy shrimp (Branchinecta sandiegonensis)
PER2372962 | Danielle Temple, Crowley Lake, California | • Conservancy fairy shrimp (Branchinecta conservatio) • Longhorn fairy shrimp (Branchinecta longiantenna). • Vernal pool tadpole shrimp (Lepidurus packardi). | CA | Survey, capture, handle, release, and collect adult vouchers. | New.
|  | • Riverside fairy shrimp (Streptocephalus woottoni)
|  | • San Diego fairy shrimp (Branchinecta sandiegonensis)
022227 | Harry Smead, Escondido, California | • Conservancy fairy shrimp (Branchinecta conservatio) • Longhorn fairy shrimp (Branchinecta longiantenna). • Vernal pool tadpole shrimp (Lepidurus packardi). | CA | Survey, capture, handle, release, collect adult vouchers, and collect branchiopod cysts | Renew.
|  | • Riverside fairy shrimp (Streptocephalus woottoni)
|  | • San Diego fairy shrimp (Branchinecta sandiegonensis)
PER2421919 | Patrick Kong, Fresno, California | • Conservancy fairy shrimp (Branchinecta conservatio) • Longhorn fairy shrimp (Branchinecta longiantenna). | CA | Survey, capture, handle, release, and collect adult vouchers | New.
|  | • Vernal pool tadpole shrimp (Lepidurus packardi)
|  | • Riverside fairy shrimp (Streptocephalus woottoni)
|  | • San Diego fairy shrimp (Branchinecta sandiegonensis)
117947 | Kevin Clark, San Diego, California | • California least tern (Sternula antillarum browni) | CA | Survey, locate and monitor nests, handle, band, and release | Amend.
PER2422473 | Wildlife Innovations, Inc., Lakeside, California | • California least tern (Sternula antillarum browni) • California Ridgway's rail (Rallus obsoletus obsoletus). • Light-footed Ridgway's rail (Rallus obsoletus levipes). | CA | Survey, locate and monitor nests, monitor with cameras, trap, collect genetic samples, mark, float eggs, erect chick shelters, play audio, capture, handle, measure, and relocate, band, place and maintain nest exclosures, and place, maintain, and remove decoys | New.
PER2423321 | Ryan Anderson, Newport Beach, California | • California tiger salamander (Ambystoma californiense), Sonoma County and Santa Barbara County distinct population segments | CA | Survey, capture, handle, and release | New.
PER0011963 | Ian Hirschler, San Diego, California | • Delhi Sands flower-loving fly (Rhaphiomidas terminatus abdominalis) | CA | Pursue | Amend.
PER2424938 | Westland Resources, Inc., Tucson, Arizona | • Tiehm's buckwheat (Eriogonum tiehmii) | NV | Collect seeds, bulk seeds | New.
205600 | Bonnie Peterson, Sacramento, California | • Conservancy fairy shrimp (Branchinecta conservatio) • Longhorn fairy shrimp (Branchinecta longiantenna). • Vernal pool tadpole shrimp (Lepidurus packardi). | CA | Survey, capture, handle, release, collect adult vouchers, and collect branchiopod cysts | Renew.
|  | • Riverside fairy shrimp (Streptocephalus woottoni)
|  | • San Diego fairy shrimp (Branchinecta sandiegonensis)
090849 | David Wolff, Los Osos, California | • Conservancy fairy shrimp (Branchinecta conservatio) • Longhorn fairy shrimp (Branchinecta longiantenna). • Vernal pool tadpole shrimp (Lepidurus packardi). | CA | Survey, capture, handle, release, collect adult vouchers, and collect branchiopod cysts | Renew.
|  | • Riverside fairy shrimp (Streptocephalus woottoni)
|  | • San Diego fairy shrimp (Branchinecta sandiegonensis)
233373 | MaryAnne Flett, Pt. Reyes Station, California | • California Ridgway's rail (Rallus obsoletus obsoletus) | CA | Survey using recorded vocalizations | Renew.
76005A | Tara Schoenwetter, Ventura, California | • Gaviota tarplant (Deinandra increscens ssp. villosa) • La Graciosa thistle (Cirsium loncholepis) • Gambel's watercress (Rorippa gambellii) • Lompoc yerba santa (Eriodictyon capitatum). | CA | Remove and reduce to possession, survey, capture, handle, release, collect adult vouchers, and collect branchiopod cysts | Renew.
|  | • • Marsh Sandwort (Arenaria paludicola)
|  | • Conservancy fairy shrimp (Branchinecta conservatio)
|  | • Longhorn fairy shrimp (Branchinecta longiantenna)
|  | • Vernal pool tadpole shrimp (Lepidurus packardi)
|  | • Riverside fairy shrimp (Streptocephalus woottoni)
|  | • San Diego fairy shrimp (Branchinecta sandiegonensis)
60358C | California Department of Fish and Wildlife, San Diego, California | • Riverside fairy shrimp (Streptocephalus woottoni) • San Diego fairy shrimp (Branchinecta sandiegonensis) | CA | Survey, capture, handle, release, and collect adult vouchers | Renew.
835365 | California Department of Water Resources, West Sacramento, California | • Conservancy fairy shrimp (Branchinecta conservatio) • Longhorn fairy shrimp (Branchinecta longiantenna). • Vernal pool tadpole shrimp (Lepidurus packardi). | CA | Survey, survey using recorded vocalizations, handle, mark, release, use egg grids, collect adult vouchers, and collect branchiopod cysts | Renew.
|  | • Riverside fairy shrimp (Streptocephalus woottoni)
|  | • San Diego fairy shrimp (Branchinecta sandiegonensis)
|  | • California Ridgway's rail (Rallus obsoletus obsoletus)
|  | • California tiger salamander (Ambystoma californiense), Sonoma County and Santa Barbara County distinct population segments
|  | • Salt marsh harvest mouse (Reithrodontomys raviventris)
54614A | California Department of Fish and Wildlife, Rancho Cordova, California | • Amargosa vole (Microtus californicus scirpensis) | CA | Survey, capture, handle, collect, photograph, tag, mark, collect genetic samples, administer veterinary care, euthanize, remove from the wild, emergency salvage, transport, hold in captivity, captive rear, captive breed, conduct behavioral studies, release to the wild, translocate, use remote cameras, and monitor populations | Renew and amend.
59680C | Thea Wang, Glendale, California | • San Bernardino Merriam's kangaroo rat (Dipodomys merriami parvus) • Pacific pocket mouse (Perognathus longimembris pacificus). | CA | Survey, capture, handle, and release | Renew.
72713C | Bradford Hollingsworth, San Diego, California | • Arroyo (= arroyo southwestern) toad (Anaxyrus californicus) | CA | Survey, capture, handle, and release | Renew.
32290D | Michael Scaffidi, Davis, California | • Conservancy fairy shrimp (Branchinecta conservatio) • Longhorn fairy shrimp (Branchinecta longiantenna). • Vernal pool tadpole shrimp (Lepidurus packardi). | CA | Survey, capture, handle, release, and collect adult vouchers | Renew.
|  | • Riverside fairy shrimp (Streptocephalus woottoni)
|  | • San Diego fairy shrimp (Branchinecta sandiegonensis)
019949 | Vipul Joshi, Encinitas, California | • Quino checkerspot butterfly (Euphydryas editha quino) | CA | Pursue | Renew.
089980 | Hagar Environmental Science, Loch Lomond, California | • Tidewater goby (Eucyclogobius newberryi) | CA | Survey, capture, handle, and release | Renew.
797234 | LSA Associates, Inc., Point Richmond, California | • Conservancy fairy shrimp (Branchinecta conservatio) • Longhorn fairy shrimp (Branchinecta longiantenna). Vernal pool tadpole shrimp (Lepidurus packardi). • Riverside fairy shrimp (Streptocephalus woottoni). • San Diego fairy shrimp (Branchinecta |  | Survey, survey using recorded vocalizations, capture, handle, mark, release, collect adult vouchers, collect branchiopod cysts, collect, process, and analyze vernal pool soil samples for the presence of resting eggs | Renew.
|  | sandiegonensis)
|  | • California Ridgway's rail (Rallus obsoletus obsoletus)
|  | • California tiger salamander (Ambystoma californiense), Sonoma County and Santa Barbara County distinct population segments
|  | • California freshwater shrimp (Syncaris pacifica)
|  | • San Francisco garter snake (Thamnophis sirtalis tetrataenia) | CA
45250C | Griffin Brungraber, Bend, Oregon | • Quino checkerspot butterfly (Euphydryas editha quino) | CA | Pursue | Renew.
24603A | Karen Carter, Running Springs, California | • Yuma Ridgway's rail (Rallus obsoletus yumanensis) | CA, NV | Survey using recorded vocalizations | Renew.
787924 | Markus Spiegelberg, San Diego, California | • Quino checkerspot butterfly (Euphydryas editha quino) | CA | Pursue | Amend.
062907 | Andrew Forde, Camarillo, California | • Southwestern willow flycatcher (Empidonax traillii extimus) • Arroyo (= arroyo southwestern) toad (Anaxyrus californicus). | CA, NV | Survey using recorded vocalizations, survey, capture, handle, and release | Renew and amend.
082233 | Marcus England, Los Angeles, California | • Southwestern willow flycatcher (Empidonax traillii extimus) | CA | Survey using recorded vocalizations | Renew.
839960 | John Dicus, Black Canyon City, Arizona | • Delhi Sands flower-loving fly (Rhaphiomidas terminatus abdominalis) • Quino checkerspot butterfly (Euphydryas editha quino). | CA | Pursue | Renew.
797267 | Triple HS, Inc., Los Gatos, California | • Conservancy fairy shrimp (Branchinecta conservatio) • Longhorn fairy shrimp (Branchinecta longiantenna). • Vernal pool tadpole shrimp (Lepidurus packardi). | CA | Survey, survey using recorded vocalizations, capture, handle, mark, release, collect adult vouchers, and collect branchiopod cysts | Renew.
|  | • Riverside fairy shrimp (Streptocephalus woottoni)
|  | • San Diego fairy shrimp (Branchinecta sandiegonensis)
|  | • California Ridgway's rail (Rallus obsoletus obsoletus). • California tiger salamander (Ambystoma californiense), Sonoma County and Santa Barbara County distinct population segments
|  | • Fresno kangaroo rat (Dipodomys nitratoides exilis)
|  | • Giant kangaroo rat (Dipodomys ingens)
|  | • Tipton kangaroo rat (Dipodomys nitratoides nitratoides)
|  | • Salt marsh harvest mouse (Reithrodontomys raviventris)
84156D | Stephen Gergeni, Sacramento, California | • California tiger salamander (Ambystoma californiense), Sonoma County and Santa Barbara County distinct population segments | CA | Survey, capture, handle, mark, release, collect adult vouchers, and collect branchiopod cysts | Renew and amend.
|  | • Conservancy fairy shrimp (Branchinecta conservatio)
|  | • Longhorn fairy shrimp (Branchinecta longiantenna)
|  | • Vernal pool tadpole shrimp (Lepidurus packardi)
|  | • Riverside fairy shrimp (Streptocephalus woottoni)
|  | • San Diego fairy shrimp (Branchinecta sandiegonensis)
48210A | Area West Environmental, Inc., Orangevale, California | • California tiger salamander (Ambystoma californiense), Sonoma County and Santa Barbara County distinct population segments • Conservancy fairy shrimp (Branchinecta conservatio). • Longhorn fairy shrimp (Branchinecta longiantenna). | CA | Survey, capture, handle, collect genetic material, release, collect adult vouchers, and collect branchiopod cysts | Renew.
|  | • Vernal pool tadpole shrimp (Lepidurus packardi)
|  | • Riverside fairy shrimp (Streptocephalus woottoni)
|  | • San Diego fairy shrimp (Branchinecta sandiegonensis)
34132C | USDA Forest Service, Vallejo, California | • Sierra Nevada yellow-legged frog (Rana sierrae) • Mountain yellow-legged frog (Rana muscosa), Northern California distinct population segment | CA, NV | Survey, capture, handle, measure, mark, transport, translocate, emergency salvage, and release | Renew.
777965 | LSA Associates, Inc., Ventura, California | • Conservancy fairy shrimp (Branchinecta conservatio) • Longhorn fairy shrimp (Branchinecta longiantenna). • Vernal pool tadpole shrimp (Lepidurus packardi). | CA | Survey, survey using recorded vocalizations, pursue, capture, handle, mark, release, collect adult vouchers, and collect branchiopod cysts | Renew.
|  | • Riverside fairy shrimp (Streptocephalus woottoni)
|  | • San Diego fairy shrimp (Branchinecta sandiegonensis)
|  | • Fresno kangaroo rat (Dipodomys nitratoides exilis)
|  | • Giant kangaroo rat (Dipodomys ingens)
|  | • Tipton kangaroo rat (Dipodomys nitratoides nitratoides)
|  | • San Bernardino Merriam's kangaroo rat (Dipodomys merriami parvus)
|  | • Pacific pocket mouse (Perognathus longimembris pacificus)
|  | • Southwestern willow flycatcher (Empidonax traillii extimus)
|  | • Delhi Sands flower-loving fly (Rhaphiomidas terminatus abdominalis)
|  | • Quino checkerspot butterfly (Euphydryas editha quino)
006559 | Dale Powell, Riverside, California | • Delhi Sands flower-loving fly (Rhaphiomidas terminatus abdominalis) • Quino checkerspot butterfly (Euphydryas editha quino). • Conservancy fairy shrimp (Branchinecta conservatio). | CA | Survey, pursue, light-trap, capture, handle, mark, release, collect adult vouchers, and collect branchiopod cysts | Renew.
|  | • Longhorn fairy shrimp (Branchinecta longiantenna)
|  | • Vernal pool tadpole shrimp (Lepidurus packardi)
|  | • Riverside fairy shrimp (Streptocephalus woottoni)
|  | • San Diego fairy shrimp (Branchinecta sandiegonensis)
PER2380360 | Sarah Yates, Clovis, California | • Conservancy fairy shrimp (Branchinecta conservatio) • Longhorn fairy shrimp (Branchinecta longiantenna). • Vernal pool tadpole shrimp (Lepidurus packardi). | CA | Survey, capture, handle, mark, release, and collect adult vouchers | New.
|  | • Riverside fairy shrimp (Streptocephalus woottoni)
|  | • San Diego fairy shrimp (Branchinecta sandiegonensis)
PER2380694 | Christopher Waterston, Santa Ana, California | • Conservancy fairy shrimp (Branchinecta conservatio) • Longhorn fairy shrimp (Branchinecta longiantenna). • Vernal pool tadpole shrimp (Lepidurus packardi). | CA | Survey, capture, handle, release, collect adult vouchers, and collect branchiopod cysts | New.
|  | • Riverside fairy shrimp (Streptocephalus woottoni)
|  | • San Diego fairy shrimp (Branchinecta sandiegonensis)
PER2381586 | National Park Service, El Portal, California | • Fisher (Pekania pennanti), Southern Sierra Nevada distinct population segment | CA | Survey, capture, handle, mark, and release | New.
PER2383715 | Calypso Botanical Consulting, Ashland, Oregon | • Conservancy fairy shrimp (Branchinecta conservatio) • Longhorn fairy shrimp (Branchinecta longiantenna). • Vernal pool tadpole shrimp (Lepidurus packardi). | CA, OR | Survey, capture, handle, release, and collect adult vouchers | New.
|  | • Riverside fairy shrimp (Streptocephalus woottoni)
|  | • San Diego fairy shrimp (Branchinecta sandiegonensis)
92770B | Conservation Society of California, Oakland, California | • Sierra Nevada yellow-legged frog (Rana sierrae) • Mountain yellow-legged frog (Rana muscosa), Northern California distinct population segment | CA | Transport, captive-rear, provide veterinary treatment and husbandry, take genetic samples, mark, perform behavioral and disease experiments, indefinitely retain and display to the public those individuals that are unfit for reintroduction into the wild, release, euthanize, and necropsy | Renew.
PER2385052 | Derek Siver, Seattle, Washington | • Conservancy fairy shrimp (Branchinecta conservatio) • Longhorn fairy shrimp (Branchinecta longiantenna). • Vernal pool tadpole shrimp (Lepidurus packardi). | CA, OR | Survey, capture, handle, release, collect adult vouchers, and collect branchiopod cysts | New.
|  | • Riverside fairy shrimp (Streptocephalus woottoni)
|  | • San Diego fairy shrimp (Branchinecta sandiegonensis)
PER2385673 | Jamie Del Pozzo, Pacific Grove, California | • California tiger salamander (Ambystoma californiense), Sonoma County and Santa Barbara County distinct population segments | CA | Survey, capture, handle, and release | New.
PER2385850 | Lorna Haworth, Sacramento, California | • Conservancy fairy shrimp (Branchinecta conservatio) • Longhorn fairy shrimp (Branchinecta longiantenna). • Vernal pool tadpole shrimp (Lepidurus packardi). | CA | Survey, capture, handle, release, and collect adult vouchers | New.
|  | • Riverside fairy shrimp (Streptocephalus woottoni)
|  | • San Diego fairy shrimp (Branchinecta sandiegonensis)
19843C | Jennifer Sexton, Simi Valley, California | • Southwestern willow flycatcher (Empidonax traillii extimus) | CA | Survey using recorded vocalizations | Renew.
13115C | Lisa Henderson, San Ramon, California | • Conservancy fairy shrimp (Branchinecta conservatio) • Longhorn fairy shrimp (Branchinecta longiantenna) • Vernal pool tadpole shrimp (Lepidurus packardi) | CA | Survey, capture, handle, release, and collect adult vouchers | Amend.
|  | • Riverside fairy shrimp (Streptocephalus woottoni)
|  | • San Diego fairy shrimp (Branchinecta sandiegonensis)

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of be made available for public disclosure in their entirety.

Next Steps

If we decide to issue permits to any of the applicants listed in this notice, we will publish a notice in the Federal Register.

Authority

We publish this notice under section 10(c) of the Endangered Species Act of 1973, as amended (16 U.S.C. 1531 et seq.).

Peter Erickson,
Acting Regional Ecological Services Program Manager, Pacific Southwest Region, Sacramento, California.

[FR Doc. 2023-08940 Filed 4-26-23; 8:45 am]

BILLING CODE 4333-15-P